DEPARTMENT OF COMMERCE

National Oceanic and Atmospheric Administration

[RTID 0648-XC928]

Gulf of Mexico Fishery Management Council; Public Meetings

AGENCY: National Marine Fisheries Service (NMFS), National Oceanic and Atmospheric Administration (NOAA), Commerce.

ACTION: Notice; public hearings and webinars.

SUMMARY: The Gulf of Mexico Fishery Management Council (Council) will hold four in-person public hearings and two webinars to solicit public comments on Reef Fish Amendment 56: Modifications to Catch Limits, Sector Allocation, and Recreational Fishing Seasons for Gulf of Mexico Gag.

DATES: The public hearings will take place May 8-30, 2023. The in-person public hearings and webinars will begin at 6 p.m. and will conclude no later than 9 p.m., EDT. For specific dates and times, see SUPPLEMENTARY INFORMATION. Written public comments must be received on or before 5 p.m. EDT on May 30, 2023.

ADDRESSES: Please visit the Gulf Council website at www.gulfcouncil.org for meeting materials and webinar registration information. If you prefer to “listen in”, you may access the log-on information by visiting our website at www.gulfcouncil.org.

Meeting addresses: The public hearings will be held in Destin, Cedar Key, St. Petersburg and Ft. Myers, FL; and two virtual webinars. For specific locations, see SUPPLEMENTARY INFORMATION.

Public comments: Comments may be submitted online through the Council's public portal by visiting www.gulfcouncil.org and clicking on “CONTACT US”.

FOR FURTHER INFORMATION CONTACT: Emily Muehlstein; Public Information Officer; emily.muehlstein@gulfcouncil.org, Gulf of Mexico Fishery Management Council; telephone: (813) 348-1630.

SUPPLEMENTARY INFORMATION: The agenda for the following four in-person public hearings and two webinars are as follows: Council staff will begin with a presentation on the purpose, need, and proposed management alternatives in Reef Fish Amendment 56. The Council is currently considering modifications to Gag status determination criteria, catch limits, sector allocation, rebuilding timeline, annual catch targets, and recreational fishing season.

Staff and a Council member will be available to answer any questions, and the public will have the opportunity to provide testimony on the amendment and other related testimony.

In-Person Locations and Webinars

Monday, May 8, 2023; via webinar. Visit www.gulfcouncil.org website and click on the “meetings” tab for registration information. After registering, you will receive a confirmation email containing information about joining the webinar.

Monday, May 15, 2023; Destin Community Center; 101 Stahlman Avenue, Destin, FL 32541; phone: (850) 654-5184; Fish and Wildlife Research Institute (FWRI) Lab, 552 1st Street, Cedar Key, FL 32625; Courtyard Gulf Coast Town Center Hotel, 10050 Gulf Center Drive, Fort Myers, FL 33913; phone: (239) 332-4747.

Wednesday, May 17, 2023; Fish and Wildlife Research Institute (FWRI) Auditorium, 100 8th Avenue SE, St. Petersburg, FL 33701; phone: (727) 502-4769.

Tuesday, May 30, 2023; via webinar. Visit www.gulfcouncil.org website and click on the “meetings” tab for registration information. After registering, you will receive a confirmation email containing information about joining the webinar.

Special Accommodations

These meetings are physically accessible to people with disabilities. Requests for sign language interpretation or other auxiliary aids should be directed to Kathy Pereira (see ADDRESSES), at least 5 working days prior to the meeting date.

Authority: 16 U.S.C. 1801 et seq.

Dated: April 17, 2023.
Rey Israel Marquez,
Acting Deputy Director, Office of Sustainable Fisheries, National Marine Fisheries Service.

[FR Doc. 2023-08373 Filed 4-19-23; 8:45 am]

BILLING CODE 3510-22-P